DEPARTMENT OF THE INTERIOR

National Park Service

[NPS-WASO-NRNHL-25281; PPWOCRADI0, PCU00RP14.R50000]

National Register of Historic Places; Notification of Pending Nominations and Related Actions

AGENCY: National Park Service, Interior.

ACTION: Notice.

SUMMARY: The National Park Service is soliciting comments on the significance of properties nominated before March 17, 2018, for listing or related actions in the National Register of Historic Places.

DATES: Comments should be submitted by April 26, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before March 17, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

San Francisco County

Women's Building, The; 3543 18th St., San Francisco, SG100002359

HAWAII

Hawaii County (Honoka'a Town, Hawaii MPS)

Bank of Hawai'i, Ltd., 45-3568 Mamane St., Honoka'a, MP100002360

NEW YORK

Erie County

Colonial Flats and Annex, 399-401 Delaware Ave, Buffalo, SG100002366

Greene County

Dunix, 593 Cornwallville Rd., Cornwallville vicinity, SG100002364

Monroe County

Mount Hope Cemetery, Bounded by Mount Hope and Elmwood Aves., and Intercampus Dr., Rochester, SG100002361

Ulster County

Vernooy—Bevier Stone House and Barns, 7075 US 209, Wawarsing, SG100002365

Washington County

Whitehall Fire Station, 161 Main Street, Whitehall, SG100002367

PENNSYLVANIA

Allegheny County

Chatham Center, 112 Washington Place, Pittsburgh, SG100002378

Bucks County

Delbar Products, Inc., 601 Spruce St., Perkasie, SG100002369

Jefferson County

Knapp, Joseph, Hotel and Store, 15285 PA 28, Clover Township, SG100002371

Philadelphia County

International Harvester Company Building—Philadelphia Branch House, 2903-2909 N. 16th St., Philadelphia, SG100002370

Buick Motor Company Building, 2917-2937 N. 16 St., Philadelphia, SG100002372

VIRGINIA

Appomattox County

Gilliam—Irving Farm, 2012 Swan Rd., Pamplin vicinity, SG100002374

Harrisonburg Independent city

Harrisonburg Downtown Historic District (Boundary Increase), 245 and 240 Old South High St., Harrisonburg, BC100002376

Hopewell Independent city

Downtown Hopewell Historic District (Boundary Increase), Boundary includes Main St., Appomattox St., Hopewell St., and East Broadway, Hopewell, BC100002375

Additional documentation has been received for the following resource:

OREGON

Marion County

Salem Downtown State Street—Commercial Street Historic District, Roughly bounded by Ferry, High, Chemeketa, and Fronts Sts., Salem, AD01001067

Nominations submitted by Federal Preservation Officers:

The State Historic Preservation Officer reviewed the following nominations and responded to the Federal Preservation Officer within 45 days of receipt of the nominations and supports listing the properties in the National Register of Historic Places.

ARIZONA

Yavapai County

OK Ranch Historic District, Red Rock Crossing, Sedona Ranger District, Coconino National Forest, Sedona vicinity, SG100002358

MONTANA

Gallatin County

Federal Building and US Post Office—Bozeman, 10 E. Babcock St., Bozeman, SG100002362

NORTH CAROLINA

Iredell County

United States Post Office and Court House—Statesville, 200 W. Broad St., Statesville, SG100002363

WISCONSIN

Douglas County

METEOR (whaleback carrier) (Boundary Decrease), NW tip of Barkers Island, Superior, C100002377

Authority: Section 60.13 of 36 CFR part 60

Dated: March 22, 2018.
J. Paul Loether,
Chief, National Register of Historic Places/National Historic Landmarks Program and Keeper, National Register of Historic Places.

[FR Doc. 2018-07449 Filed 4-10-18; 8:45 am]

BILLING CODE 4312-52-P